DEPARTMENT OF COMMERCE

Patent and Trademark Office

[Docket No. PTO-C-2023-0022]

Request for Comments on Southeast Regional Office and Community Outreach Office Locations

Correction

In notice document 2023-11987, appearing on page 37037 through 37039 in the issue of Tuesday, June 6, 2023, make the following correction:

On page 37038, in the third column, on the 33rd line from the top, the link

should read:

“https://iqconnect.iqfed.com/iqextranet/EForm.aspx?__cid=USPTO&__fid=100155”.

[FR Doc. C1-2023-11987 Filed 6-20-23; 8:45 am]

BILLING CODE 0099-10-P